Executive Order 14382 of February 6, 2026

Addressing Threats to the United States by the Government of Iran

By the authority vested in me as President by the Constitution and the laws of the United States of America, including the International Emergency Economic Powers Act (50 U.S.C. 1701 et seq.) (IEEPA), the National Emergencies Act (50 U.S.C. 1601 et seq.), section 604 of the Trade Act of 1974, as amended (19 U.S.C. 2483), and section 301 of title 3, United States Code, I hereby determine and order:

Section 1. Background. Executive Order 12957 of March 15, 1995 (Prohibiting Certain Transactions With Respect to the Development of Iranian Petroleum Resources), found that the actions and policies of the Government of Iran constitute an unusual and extraordinary threat to the national security, foreign policy, and economy of the United States and declared a national emergency to deal with that threat. Numerous subsequent Executive Orders—including Executive Order 13059 of August 19, 1997 (Prohibiting Certain Transactions With Respect to Iran); Executive Order 13590 of November 20, 2011 (Authorizing the Imposition of Certain Sanctions With Respect to the Provision of Goods, Services, Technology, or Support for Iran's Energy and Petrochemical Sectors); Executive Order 13622 of July 30, 2012 (Authorizing Additional Sanctions With Respect to Iran); Executive Order 13902 of January 10, 2020 (Imposing Sanctions With Respect to Additional Sectors of Iran); and others—have further described the threat posed by the Government of Iran and taken additional action to deal with the national emergency declared in Executive Order 12957. For example, Executive Order 13553 of September 28, 2010 (Blocking Property of Certain Persons With Respect to Serious Human Rights Abuses by the Government of Iran and Taking Certain Other Actions), took additional steps with respect to the national emergency declared in Executive Order 12957, including authorizing the blocking of property to address serious human rights abuses against persons in Iran. Executive Order 13846 of August 6, 2018 (Reimposing Certain Sanctions With Respect to Iran), also took additional steps with respect to the national emergency declared in Executive Order 12957, including imposing sanctions to advance the goal of applying financial pressure on the Iranian regime in pursuit of a comprehensive and lasting solution to the full range of the threats posed by the Government of Iran.

I have received additional information from various senior officials on, among other things, the actions and policies of the Government of Iran, including the circumstances related to the national emergency declared in Executive Order 12957 and expanded on in subsequent orders. After considering this additional information, among other things, I find that the national emergency declared in Executive Order 12957 and further described in subsequent orders continues and that the actions and policies of the Government of Iran continue to pose an unusual and extraordinary threat, which has its source in whole or substantial part outside the United States, to the national security, foreign policy, and economy of the United States.

To deal with the national emergency described in Executive Order 12957 and subsequent orders, I determine that it is necessary and appropriate to impose an additional ad valorem duty on imports of articles that are products of foreign countries that directly or indirectly purchase, import, or otherwise acquire any goods or services from Iran. In my judgment, the tariff regime, as described below, in addition to maintaining the other measures taken to address the national emergency described in Executive Order 12957 and subsequent orders, will more effectively deal with the national emergency described in those orders.

Sec. 2. Imposition of Tariffs. (a) Beginning on the effective date of this order, an additional ad valorem rate of duty—for example, 25 percent—may be imposed on goods imported into the United States that are products of any country that directly or indirectly purchases, imports, or otherwise acquires any goods or services from Iran, in accordance with subsections (b) and (c) of this section.

(b)(i) The Secretary of Commerce, in consultation with the Secretary of State and any senior official the Secretary of Commerce deems appropriate, shall determine whether, after the effective date of this order, a foreign country directly or indirectly purchases, imports, or otherwise acquires any goods or services from Iran. After the Secretary of Commerce finds that a foreign country directly or indirectly purchases, imports, or otherwise acquires any goods or services from Iran, the Secretary of Commerce shall inform the Secretary of State of his finding, including any information relevant to that finding.

(ii) The Secretary of Commerce may issue rules, regulations, and guidance necessary or appropriate to implement this order. The Secretary of Commerce may also make any other determinations or take any other actions necessary or appropriate to implement this order.

(c)(i) After the Secretary of Commerce makes an affirmative finding pursuant to subsection (b)(i) of this section and informs the Secretary of State of his finding, the Secretary of State, in consultation with the Secretary of the Treasury, the Secretary of Commerce, the Secretary of Homeland Security, and the United States Trade Representative, shall determine whether and to what extent an additional ad valorem rate of duty should be imposed on goods that are products of the foreign country found to directly or indirectly purchase, import, or otherwise acquire goods or services from Iran.

(ii) If the Secretary of State determines that an additional ad valorem rate of duty should be imposed on goods that are products of the country found to directly or indirectly purchase, import, or otherwise acquire goods or services from Iran, the Secretary of State shall inform me of his recommendation, and the Secretary of Commerce shall inform me of his finding related to that recommendation. I will then consider the recommendation and finding, among other relevant things, in determining whether and to what extent to impose an additional ad valorem rate of duty on goods that are products of the country in question.

(iii) The Secretary of State may issue rules, regulations, and guidance necessary or appropriate to implement this order. The Secretary of State may also make any other determinations or take any other actions necessary or appropriate to implement this order.

Sec. 3. Modification Authority. (a) To ensure that the national emergency described in section 1 of this order is dealt with, I may modify this order, including in light of additional information, recommendations from senior officials, or changed circumstances.

(b) Should a foreign country retaliate against the United States in response to this order or any action taken pursuant to this order, I may modify this order or actions taken pursuant to this order to ensure the efficacy of this order and the actions taken pursuant to this order to deal with the national emergency described in section 1 of this order.

(c) Should the Government of Iran or a foreign country affected by this order take significant steps to address the national emergency described in section 1 of this order and align sufficiently with the United States on national security, foreign policy, and economic matters, I may modify this order.

Sec. 4. Monitoring and Recommendations. (a) The Secretary of State, in consultation with any senior official the Secretary of State deems appropriate, shall monitor the circumstances involving the national emergency described in section 1 of this order. The Secretary of State shall inform me of any circumstance that, in his opinion, might indicate the need for further Presidential action.

(b) The Secretary of State, in consultation with the Secretary of the Treasury, the Secretary of Commerce, the Secretary of Homeland Security, the United States Trade Representative, and any other senior official the Secretary of State deems appropriate, shall recommend to me additional action, if necessary, if the actions in this order or taken pursuant to this order are not effective in dealing with the national emergency described in section 1 of this order.

(c) The Secretary of Commerce shall monitor whether a foreign country directly or indirectly purchases, imports, or otherwise acquires any goods or services from Iran. The Secretary of Commerce shall continue such monitoring after a foreign country has been found to do so.

Sec. 5. Delegation. Consistent with applicable law, the Secretary of State, the Secretary of Commerce, and the United States Trade Representative are directed and authorized to take all actions necessary to implement and effectuate this order—including through temporary suspension or amendment of regulations or through notices in the Federal Register and by adopting rules, regulations, or guidance—and to employ all powers granted to the President, including by IEEPA, as may be necessary to implement this order. The head of each executive department and agency (agency) is authorized to and shall take all appropriate measures within the agency's authority to implement this order. The head of each agency may, consistent with applicable law, including section 301 of title 3, United States Code, redelegate the authority to take such appropriate measures within the agency.

Sec. 6. Definitions. For the purposes of this order:

(a) The term “goods or services from Iran” shall be construed consistent with 31 CFR 560.306, and the term shall include only goods or services for which United States persons are prohibited from trading in with respect to Iran.

(b) The term “indirectly” includes purchases, imports, or other acquisitions of Iranian goods and services through intermediaries or third countries where the origin of the good or service can reasonably be traced to Iran, as determined by the Secretary of Commerce.

(c) The term “Iran” means the Islamic Republic of Iran, its territory, and any other territory or marine area, including the exclusive economic zone and continental shelf, over which the Government of Iran claims sovereignty, sovereign rights, or jurisdiction, provided that the Government of Iran exercises partial or total de facto control over the area or derives a benefit from economic activity in the area pursuant to international arrangements.

(d) The term “Government of Iran” includes the Government of the Islamic Republic of Iran, any political subdivision, agency, or instrumentality thereof, including the Central Bank of Iran and the Islamic Revolutionary Guard Corps, and any person owned or controlled by, or acting for or on behalf of, the Government of Iran.

Sec. 7. Effective Date. This order is effective at 12:01 a.m. eastern standard time on February 7, 2026.

Sec. 8. Severability. If any provision of this order or the application of any provision of this order to any individual or circumstance is held to be invalid, the remainder of this order and the application of its provisions to any other individuals or circumstances shall not be affected. If the action in this order or any action taken pursuant to this order is held invalid, the other actions imposed to deal with the national emergencies declared with respect to the Government of Iran shall not be affected and shall remain in effect.

Sec. 9. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Commerce.

THE WHITE HOUSE,

February 6, 2026.

[FR Doc. 2026-02813

Filed 2-10-26; 11:15 am]

Billing code 3510-DT-P